NATIONAL TRANSPORTATION SAFETY BOARD

[Docket No.: NTSB-2021-0010, OMB Control No. 3147-0028]

Proposed Information Collection; Comment Request

Correction

In notice document 2021-27299, appearing on page 71676 in the issue of Friday, December 17, 2021, make the following corrections:

1. On page 71676, in the first column, in the ADDRESSES section, on the third line, “NTSB-2021-0007” should read, “NTSB-2021-0010”.

2. On the same page, in the same column, in the paragraph that begins “Instructions:”, on the third line, “NTSB-2021-0007” should read, “NTSB-2021-0010”.

3. On the same page, in the same column, in the paragraph that begins “Docket:”, on the fourth line, “NTSB-2021-0007” should read, “NTSB-2021-0010”.

4. On the same page, in the same column, in the same paragraph, on the seventh and eighth lines, “NTSB-2021-0007” should read, “NTSB-2021-0010”.

[FR Doc. C1-2021-27299 Filed 12-23-21; 8:45 am]

BILLING CODE 0099-10-D